DEPARTMENT OF JUSTICE

[OMB Number 1117-0014]

Agency Information Collection Activities; Proposed eCollection, eComments Requested; Revision of a Currently Approved Collection; Application for Registration and Application for Registration Renewal; DEA Forms 224, 224A

AGENCY: Drug Enforcement Administration, Department of Justice.

ACTION: 60-Day notice.

SUMMARY: The Department of Justice (DOJ), Drug Enforcement Administration (DEA), will be submitting the following information collection request to the Office of Management and Budget (OMB) for review and approval in accordance with the Paperwork Reduction Act of 1995.

DATES: Comments are encouraged and will be accepted for 60 days until May 2, 2023.

FOR FURTHER INFORMATION CONTACT: If you have comments on the estimated public burden or associated response time, suggestions, or need a copy of the proposed information collection instrument with instructions or additional information, please contact Scott A. Brinks, Diversion Control Division, Drug Enforcement Administration; Mailing Address: 8701 Morrissette Drive, Springfield, Virginia 22152; Telephone: (571) 776-3882.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information proposed to be collected can be enhanced; and

—Minimize the burden of the collection of information on those who are to respond, including through the use of appropriate automated, electronic, mechanical, or other technological collection techniques or other forms of information technology, e.g., permitting electronic submission of responses.

Overview of This Information Collection

1. Type of Information Collection: Revision of a currently approved collection.

2. Title of the Form/Collection: Application for Registration and Application for Registration Renewal.

3. The agency form number, if any, and the applicable component of the Department sponsoring the collection: DEA Forms: 224, 224A. The applicable component within the Department of Justice is the Drug Enforcement Administration, Diversion Control Division.

4. Affected public who will be asked or required to respond, as well as a brief abstract: Affected public (Primary): Business or other for-profit. Affected public (Other): Not-for-profit institutions; Federal, State, local, and tribal governments.

Abstract: The Controlled Substances Act (CSA) (21 U.S.C. 801-971) requires all persons that manufacture, distribute, dispense, conduct research with, import, or export any controlled substance to obtain a registration issued by the Attorney General. DEA would be revising the proposed information collection instruments as statutorily mandated by the Consolidated Appropriations Act, 2023, as Public Law 117-328. DEA would be adding questions to ensure that the applicable registrants have completed the new training requirements set forth in the Consolidated Appropriations Act, 2023.

5. An estimate of the total number of respondents and the amount of time estimated for an average respondent to respond:

| Number of annual respondents | Average time per response | Total annual hours
DEA-224 | 146,285 | 0.33 hours (20 minutes) | 48,762
DEA-224a | 524,196 | 0.17 hours (10 minutes) | 87,366
Total | 670,481 |  | 136,128
* Based on three-year average, 2020-2022. Practitioners are registered for a three-year cycle and the number of registrants is not equally distributed between years. The growth rate in the number of practitioners is low enough where the actual numbers for this period would not be materially different from the number expected for the next several years.

6. An estimate of the total public burden (in hours) associated with the proposed collection: DEA estimates that this collection takes 136,128 annual burden hours.

If additional information is required please contact: John Carlson Department Clearance Officer, United States Department of Justice, Justice Management Division, Policy and Planning Staff, Two Constitution Square, 145 N Street NE, Suite 3E.405B, Washington, DC 20530.

Dated: February 28, 2023.
John R. Carlson,
Department Clearance Officer for PRA, U.S. Department of Justice.

[FR Doc. 2023-04429 Filed 3-2-23; 8:45 am]

BILLING CODE 4410-09-P